DEPARTMENT OF LABOR

Employment and Training Administration

[TA-W-56,674]

CTS Corporation, CTS Communications Components, Inc., Including On-Site Leased Workers of Excel and Spherion; Albuquerque, New Mexico; Notice of Revised Determination on Remand

In an Order issued on February 7, 2006, the United States Court of International Trade (USCIT) granted the motion filed by the Department of Labor (Department) for voluntary remand in Former Employees of CTS Communication Components, Inc. v. United States Secretary of Labor, Court No. 05-00372.

On April 15, 2005, the Department issued a negative determination regarding workers eligibility to apply for Trade Adjustment Assistance (TAA) and Alternative Trade Adjustment Assistance (ATAA) for workers and former workers of CTS Corporation, CTS Communications Components, Inc., Including On-Site Leased Workers of Excel and Spherion, Albuquerque, New Mexico, (CTS). Workers produce ceramic blocks/filters and sensors and are not separately identifiable by product line. The Department's Notice of determination was published in the Federal Register on May 16, 2005 (70 FR 25859).

The determination was based on the findings that the subject company neither imported ceramic blocks/filters or sensors in 2003, 2004, or during the period of January through February 2005, nor shifted production of ceramic blocks/filters or sensors abroad during the relevant period, and that the subject company's major declining customers did not increase imports of ceramic blocks/filters or sensors during the relevant period.

On June 7, 2005, the Department dismissed a request for administrative reconsideration based upon a lack of substantial new information. In the request for reconsideration, the petitioner alleged that production shifted to China and that the customer are unknowingly importing ceramic blocks/filters and/or sensors from China. The dismissal stated that while production did shift to China, as alleged, neither the subject company nor its customers had increased imports of ceramic blocks/filters or sensors. The Department's Notice of Dismissal of Application for Reconsideration was issued on June 8, 2005 and published in the Federal Register on June 20, 2005 (70 FR 35455).

By letter dated May 7, 2005, the Plaintiffs applied to the USCIT for judicial review. On February 7, 2006, the USCIT granted the Department's request for voluntary remand and directed the Department to conduct further investigation regarding the workers' eligibility to apply for TAA and ATAA.

During the remand investigation, the Department contacted the subject company to ascertain what products were produced at the subject facility during the relevant period and whether the subject company or its customers had imported those articles during the relevant period.

A careful review of the newly-obtained information has revealed that the subject company had produced ceramic filters and ceramic sensors during 2003, 2004, and 2005 and that the workers were not separately identifiable by product line. The new information also revealed that some production of ceramic sensors shifted to China and that finished ceramic sensors manufactured in China were shipped to customers in the United States.

Additional investigation has determined that the workers possess skills that are not easily transferable. A significant number or proportion of the worker group are age fifty years or over. Competitive conditions within the industry are adverse.

Conclusion

After careful review of the facts generated through the remand investigation, I determine that increased imports of ceramic sensors like or directly competitive with those produced by the subject firm contributed importantly to the total or partial separation of a significant number of workers at the subject facility. In accordance with the provisions of the Act, I make the following certification:

“All workers of CTS Corporation, CTS Communications Components, Inc., Including On-Site Leased Workers of Excel and Spherion, Albuquerque, New Mexico, who became totally or partially separated from employment on or after February 28, 2004, through two years from the issuance of this revised determination, are eligible to apply for Trade Adjustment Assistance under Section 223 of the Trade Act of 1974, and are also eligible to apply for alternative trade adjustment assistance under Section 246 of the Trade Act of 1974.”

Signed at Washington, DC, this 22nd day of March 2006.
Elliott S. Kushner,
Certifying Officer, Division of Trade Adjustment Assistance.

[FR Doc. E6-4847 Filed 4-3-06; 8:45 am]

BILLING CODE 4510-30-P